DEPARTMENT OF COMMERCE

International Trade Administration

[A-580-829]

Stainless Steel Wire Rod From the Republic of Korea: Final Negative Determination of Circumvention of the Antidumping Duty Order

AGENCY: Enforcement and Compliance, International Trade Administration, Department of Commerce.

SUMMARY: The U.S. Department of Commerce (Commerce) determines that U.S. imports of stainless steel round wire (SSWire) from the Socialist Republic of Vietnam (Vietnam) are not circumventing the antidumping duty (AD) order on stainless steel wire rod (SSWR) from the Republic of Korea (Korea).

DATES: Applicable May 26, 2023.

FOR FURTHER INFORMATION CONTACT: Hermes Pinilla, AD/CVD Operations, Office I, Enforcement and Compliance, International Trade Administration, U.S. Department of Commerce, 1401 Constitution Avenue NW, Washington, DC 20230; telephone: (202) 482-3477.

SUPPLEMENTARY INFORMATION:

Background

On December 16, 2022, Commerce published in the Federal Register its preliminary determination that imports of SSWire from Vietnam are not circumventing the AD order on SSWR from Korea.¹ On April 4, 2023, Commerce extended the deadline for the final determination of this circumvention inquiry to May 24, 2023.² For a summary of events that occurred since Commerce published the Preliminary Determination, as well as a full discussion of the issues raised by parties for the final determination, see the Issues and Decision Memorandum.³ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Stainless Steel Wire Rod from the Republic of Korea: Preliminary Negative Determination of Circumvention of the Antidumping Order and Postponement of Final Determination, 87 FR 77072 (December 16, 2022) (Preliminary Determination), and accompanying Preliminary Decision Memorandum (PDM); see also, Notice of Amendment of Final Determination of Sales at Less Than Fair Value and Antidumping Duty Order: Stainless Steel Wire Rod from Korea, 63 FR 49331 (September 15, 1998) (Order).

² See Commerce's Letter, “Second Extension of Deadline for Final Results of Circumvention Inquiry,” dated April 4, 2023.

³ See Memorandum, “Decision Memorandum for the Final Negative Determination of Circumvention Inquiry of the Antidumping Duty Order on Stainless Steel Wire Rod from the Republic of Korea,” dated concurrently with, and hereby adopted by, this notice (Issues and Decision Memorandum).

Scope of the Order ⁴

⁴ See Order.

For a full description of the scope of the Order, see the Issues and Decision Memorandum.

Merchandise Subject to the Circumvention Inquiry

This circumvention inquiry covers SSWire completed in Vietnam using Korea-origin SSWR and subsequently exported from Vietnam to the United States during the period of inquiry January 1, 2020, through December 31, 2021.

Methodology

Commerce is conducted this circumvention inquiry in accordance with section 781(c) of the Tariff Act of 1930, as amended (the Act) and 19 CFR 351.226. See the Preliminary Determination PDM for a full description of the methodology.⁵ We have continued to apply this methodology for this final determination.⁶

⁵ See Preliminary Determination PDM at 4-19.

⁶ See Issues and Decision Memorandum.

Analysis of Comments Received

All issues raised in the case and rebuttal briefs by parties in this inquiry are addressed in the Issues and Decision Memorandum. A list of the issues raised is attached to this notice at the appendix.

Final Negative Determination of Circumvention

As detailed in the Issues and Decision Memorandum, Commerce determines that the imports of SSWire completed in Vietnam using Korea-origin SSWR and subsequently exported from Vietnam to the United States are not circumventing the Order on a country-wide basis. Accordingly, Commerce is making a negative finding of circumvention of the Order.

Administrative Protective Order

This notice will serve as the only reminder to all parties subject to an administrative protective order (APO) of their responsibility concerning the destruction of proprietary information disclosed under APO in accordance with 19 CFR 351.305(a)(3). Timely written notification of return/destruction of APO materials or conversation to judicial protective order is hereby requested. Failure to comply with the regulations and the terms of an APO is a sanctionable violation.

Notification to Interested Parties

This determination is issued and published in accordance with section 781(c) of the Act and 19 CFR 351.226(g)(1).

Dated: May 22, 2023.
Lisa W. Wang,
Assistant Secretary for Enforcement and Compliance.

Appendix

List of Topics Discussed in the Issues and Decision Memorandum

I. Summary

II. Background

III. Merchandise Subject to the Circumvention Inquiry

IV. Scope of the Order

V. Period of Circumvention Inquiry

VI. Discussion of the Issues

Comment 1: Whether Prior Agency Determinations Are Relevant to Whether

Circumvention Has Occurred in this Case

Comment 2: Whether Commerce Should Analyze if SSWire Is a Substitute for SSWR

VII. Recommendation

[FR Doc. 2023-11312 Filed 5-25-23; 8:45 am]

BILLING CODE 3510-DS-P